DEPARTMENT OF ENERGY

Federal Energy Regulatory Commission

[Docket No. RP96-383-006

Dominion Transmission, Inc. (Formerly CNG Transmission Corporation); Notice of Negotiated Rate Filing

June 29, 2000.

Take notice that on June 23, 2000, Dominion Transmission, Inc. (DTI) (formerly CNG Transmission Corporation) tendered for filing to the Federal Energy Regulatory Commission (Commission) the following Letter Agreement and tariff sheets for disclosure of a recently negotiated rate transaction:

Letter Agreement between Dominion Transmission, Inc. and PSEG Power NY Inc. Dated June 14, 2000

Ninth Revised Sheet No. 251 Original Sheet No. 399

DTI requests an effective date of July 1, 2000, for this negotiated rate agreement.

DTI states that copies of the filing have been served on all parties on the official service list created by the Secretary in this proceeding, DTI's customers, and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-16995 Filed 7-5-00; 8:45 am]

BILLING CODE 6717-01-M